DEPARTMENT OF ENERGY

Federal Energy Regulatory Commission

[Docket No. RP02-499-002]

Equitrans, L.P.; Notice of Compliance Filing

November 15, 2002.

Take notice that on November 12, 2002, Equitrans, L.P. (Equitrans) tendered for filing as part of its FERC Gas Tariff, Original Volume No. 1, Original Sheet No. 276C; and Original Sheet No. 276D, to become effective on October 1, 2002.

Equitrans states that the purpose of this tariff filing is to comply with the Commission's Letter Order, issued in Docket No. RP02-499-000, on September 27, 2002, where the Commission accepted the Equitrans tariff sheets to comply with Commission Order 587-O, subject to its filing certain modifications to include and delete standards in accordance with Version 1.5 of the North American Energy Standards Board.

Equitrans further states that Original Sheet Nos. 276C and 276D were not originally filed on October 9, 2002, because they had previously been filed in another proceeding. However, in an order issued October 10, 2002, in Equitrans' Docket Nos. RP00-462-001, et al., the Commission indicated that this proceeding is the proper proceeding for their filing.

Any person desiring to protest said filing should file a protest with the Federal Energy Regulatory Commission, 888 First Street, NE., Washington, DC 20426, in accordance with section 385.211 of the Commission's rules and regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-29725 Filed 11-20-02; 8:45 am]

BILLING CODE 6717-01-P